DEPARTMENT OF ENERGY

Federal Energy Regulatory Commission

[Docket No. EL07-56-001; Docket No. EL07-58-001]

Allegheny Electric Cooperative, Inc., et al. v. PJM Interconnection, L.L.C.; Organization of PJM States, Inc., et al. v. PJM Interconnection, L.L.C.; Notice of Non-Decisional Status (Consolidated)

October 23, 2007.

Take notice that, for purposes of the above-captioned dockets (and all subdockets in those dockets), Jennifer B. Shipley, from the Commission's Office of Energy Market Regulation, is a non-decisional authority and non-decisional employee. Cf. 18 CFR 385.102(a) (2006) (definition of decisional authority); 18 CFR 385.2201(c)(3) (2006) (definition of decisional employee).

Kimberly D. Bose,
Secretary.

[FR Doc. E7-21231 Filed 10-26-07; 8:45 am]

BILLING CODE 6717-01-P